DEPARTMENT OF AGRICULTURE

Forest Service

Hoffman-Sailor West Project

AGENCY: Forest Service, USDA, Chequamegon-Nicolet National Forest, Medford/Park Falls Ranger District.

ACTION: Notice; intent to prepare an environmental impact statement.

SUMMARY: The Forest Service will prepare an environmental impact statement (EIS) to document the analysis and disclose the environmental effects of proposed land management activities, and corresponding alternatives within the Hoffman-Sailor West project area. The primary purpose of this proposal is to implement these activities consistent with direction in the Chequamegon National Forest Land and Resource Management Plan (Forest Plan) and respond to specific needs identified in the project area.

The project area is located on National Forest System land in the western portion of the Hoffman Creek and Sailor Lake Opportunity Areas, beginning about 4 miles east of Fifield, Wisconsin. The legal description for the area is: Township 39 North, Range 1 East, sections 10-15, 22-27, and 34-36; Township 39 North, Range 2 East, sections 7, 18-19, 29-32; Township 38 North, Range 1 East, sections 1-3, 10-15, 22-24; and Township 38 North, Range 2 East, sections 6-8 and 17-19; Fourth Principal Meridian.

DATES: Initial comments concerning the proposed action and scope of the analysis should be received within 30 days following publication of this notice to receive timely consideration in the preparation of the draft EIS.

ADDRESSES: Send written comments to: Bob Hennes, District Ranger, Medford/Park Falls Ranger District, 850 N. 8th St., Highway 13, Medford, Wisconsin 54451.

Send e-mail comments to: jdarnell01@fs.fed.us with a subject line that reads “NEPA Medford/Park Falls RD”.

FOR FURTHER INFORMATION CONTACT: Jane Darnell, Project Leader/NEPA Coordinator, Medford/Park Falls Ranger District, 850 N. 8th St., Highway 13, Medford, Wisconsin 54451; phone (715) 748-4875, voice and TDD; email: jdarnell01@fs.fed.us.

SUPPLEMENTARY INFORMATION: The information presented in this notice is included to help the reviewer determine if they are interested in or potentially affected by this proposed project. The information presented in this notice is summarized. Those who wish to comment on this proposal or are otherwise interested in or potentially affected by it are encouraged to review more detailed documents such as the Proposed Action for the Hoffman-Sailor West Project (currently available for review) and the draft EIS. See the preceding section of this notice for the person to contact for more detailed information about this project.

Purpose and Need for the Project: The primary purpose of the proposed land management activities is to implement these activities consistent with direction in the Chequamegon National Forest Land and Resource Management Plan (Forest Plan) and respond to specific needs identified in the project area. The primary project-specific needs include addressing: decline of wildlife habitat (young forest needed to sustain associated wildlife populations); reduction of wood economic value and forest reproductive potential resulting from an abundance of mature forest vegetation types; potential for insect and disease infestations resulting from an abundance of mature forest vegetation types; sustained yield of forest products such as aspen pulpwood; reduced growth of trees resulting from crowding, suppression, and competition; limited vertical vegetation structure and within-stand age structure resulting from past even-aged management in hardwood forests; limited amount of suitable perch trees for bald eagles and osprey; limited amount of quality, cold water, aquatic habitat; limited waterfowl nesting and foraging habitat; quality of forage for wildlife species associated with upland openings; and an excess of existing roads that are not needed for access or management of the area.

Proposed Action: The proposed land management activities (proposed actions), include the following, with approximate acreage and mileage values:

(1) The following projects address needs arising from an abundance of mature pioneer forest vegetation in the project area and the need for maintaining a sustained yield of pulpwood products.

Clearcut regeneration harvest of about 1,770 acres of aspen and some paper birch, balsam fir, and hardwoods: This even-aged method of harvest removes most trees in the area, which encourages regeneration of primarily pioneer vegetation.

Two stage shelterwood regeneration harvest of about 280 acres of paper birch and other mixed stands: This even-aged method of harvest removes a portion of the canopy and leaves a partial overstory as a seed source and a source of high shade. Once tree regeneration is established and has advanced, the overstory would be removed in a second cut. Areas failing to regenerate naturally would be planted.

(2) The following projects address needs resulting from tree crowding, suppression, and competition. The selection harvest additionally addresses the limited vertical vegetation structure and within-stand age structure of hardwood forests.

Thinning harvest of about 740 acres of mixed hardwood stands and conifer plantations: This even-aged method of harvest removes selected trees to maintain health and increase growth on the residual trees.

Overstory removal harvest of about 150 acres of aspen and paper birch stands: This even-aged method of harvest removes the overstory to allow the suppressed, understory trees (planted 5-20 years ago) to become the new stand.

Individual tree selection harvest of about 350 acres of mixed hardwood: This method of harvest removes individual trees and/or small groups of trees in order to move an even-aged stand of trees to an un-even aged condition.

(3) The following projects address the need for bald eagle and osprey perch trees and the need for quality, coldwater communities.

Tree planting: Several of the selection harvest areas will be underplanted with long-lived conifer species. Several of the clearcut harvest areas will be planted to long lived tree species.

(4) The following projects address maintenance and improvement needs for waterfowl foraging and nesting habitat.

Upper Squaw Creek Impoundment drawdowns: In most years, water levels in this constructed water impoundment would be lowered partially during the summer to mimic natural water fluctuations, and stimulate vegetation growth. An overwinter drawdown and a year long drawdown are also being proposed to control open water to vegetation ratios in the impoundment.

Placement of about 20 wood duck nesting boxes around the Upper Squaw Creek Impoundment.

Wild rice planting of about 5 acres of wild rice in Sailor Lake.

(5) The following project addresses the quality of forage for wildlife species associated with upland openings. Prescribed burning of about 16 acres of permanent wildlife openings: This proposal includes using prescribed burning and mechanical methods (mowing or use of hand held brush saws), in combination, to reduce the amount of woody vegetation regenerating in open grass or brush areas in one wildlife opening location.

(6) The following projects address transportation system needs.

Temporary road construction of about 2.8 miles: The proposed harvests would require construction of about 2.8 miles of temporary logging roads which would be decommissioned and revegetated following project completion.

Road relocation: One small segment of existing road (about 0.1 miles) would be relocated to an upland location to avoid wetland crossings.

Road decommissioning: An additional 1.7 miles of existing roads would be decommissioned. These roads are not needed for access or long term management of forest resources.

Project History: A project in the same vicinity was presented to the public for review and comment (scoping) in September of 1998 (Project Name: Hoffman Creek and Sailor Lake Opportunity Areas) prior to undertaking preparation of an Environmental Assessment (EA). In July of 1999 an EA was written for the Hoffman Creek and Sailor Lake Opportunity Areas and sent to the public for a 30 day review and comment period. Since then, part of the project area was identified as having potential to be included in a Forest inventory of roadless areas. At that time, a decision was made to modify the project area boundary to exclude the potential roadless inventory areas. When the Forest roadless area inventory is complete, the Forest will be in a better position to consider projects within these areas and disclose the potential effects (if any) on roadless characteristics and potential Wilderness values. Following publication of the EA, a choice was made to develop additional alternatives to address issues related to forest fragmentation.

This Notice of Intent serves as notice of the intent to prepare an EIS for the Hoffman-Sailor West Project. The comments received as a result of the public participation for the previous proposed action and EA for the Hoffman Creek and Sailor Lake Opportunity Areas will be brought forward for the Hoffman-Sailor West analysis (as they apply to the new project area).

Preliminary Issues and Alternatives: Comments from Forest Service specialists, American Indian tribes, the public, and other agencies were considered in the development of preliminary issues related to the proposed action.

Preliminary issues are as follows: potential effects on some threatened, endangered, and sensitive (TES) species and management indicator species (MIS); potential effects on heritage resources; potential effects on forest vegetation and landscape patterns (particularly related to fragmentation effects such as the potential for increased edge habitat); potential effects on forest age and structure as it relates to forest health and wildlife species dependent on pioneer vegetation; potential effects on water, wetlands, and soils; and some potential economic and social impacts (such as visual quality).

Alternatives to the proposed action that are currently being considered for display in the draft EIS are as follows: The required No Action alternative; an alternative that harvests more of the mature aspen and paper birch than the proposal (to address forest health and age distribution issues); and an alternative that groups even-aged harvests to reduce the amount of edge habitat.

Estimated Dates for Filing: The draft EIS is expected to be filed with the Environmental Protection Agency and be available for public review in August 2001. A 45-day comment period will follow publication of a Notice of Availability of the draft EIS in the Federal Register. Comments received on the draft EIS will be used in preparation of a final EIS. We expect to file the notice of the availability of the final EIS and Record of Decision (ROD) in the Federal Register in October 2001.

Relation to Forest Plan Revision: The Chequamegon-Nicolet National Forest is in the process of revising and combining the existing Land and Resource Management Plans (Forest Plans) for the Chequamegon National Forest and the Nicolet National Forest, which were administratively separate at the time the Forest Plans were developed. A Notice of Intent to revise and combine the Forest Plans was issued in 1996. As part of this process, various inventories and evaluations are occurring. Additionally, the Forest is in the process of developing alternative land management scenarios that could change the desired future conditions and management direction for the Forest. A Draft Environmental Impact Statement (DEIS) will be published in the near future that will disclose the consequences of the different land management direction scenarios considered in detail. As a result of the Forest Plan revision effort, the Forest has new and additional information beyond that used to develop the existing Forest Plans. This information will be used where appropriate in the analysis of this project to disclose the effects of the proposed activities and any alternatives developed in detail.

The decisions associated with the analysis of this project will be consistent with the existing Forest Plan, unless amended, for the Chequamegon. Under regulations of the National Environmental Policy Act (40 CFR 1506.1), the Forest Service can take actions while work on a Forest Plan revision is in progress because a programmatic Environmental Impact Statement—the existing Forest Plan Final EIS, already covers the actions. The relationship of this project to the proposed Forest Plan revision will be considered as appropriate as part of this planning effort.

The Reviewer's Obligation to Comment: The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F.Supp. 1334, 1338 (E.D. Wis., 1980). Because of these court rulings, it is very important that those interested in this proposed action participate by the close of the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Comments received, including names and addresses of those who comment, are part of the public record for this project and are available for public inspection.

Decision Space: The primary decision will be whether or not to implement the proposed projects or alternatives of the projects within the project area that respond to the purpose and need. The decision may also include additional resource protection measures, monitoring, and whether Forest Plan amendments are needed to implement the decision.

Responsible Official: The responsible official for this decision is Bob Hennes, District Ranger, Medford/Park Falls Ranger District, Chequamegon-Nicolet National Forest.

(Authority: Forest Service Handbook 1909.15, 21.1; Forest Service Manual 1013.04e)
Dated: April 17, 2001.
Lynn Roberts,
Forest Supervisor, Chequamegon-Nicolet National Forest.

[FR Doc. 01-10054 Filed 4-23-01; 8:45 am]

BILLING CODE 3410-11-P